NATIONAL SCIENCE FOUNDATION

Advisory Committee for Environmental Research and Education; Notice of Meeting

In accordance with the Federal Advisory Committee Act (Pub. L. 92-463, as amended), the National Science Foundation announces the following meeting:

Name: Advisory Committee for Environmental Research and education (9487).

Dates: April 12, 2006, 8:30 a.m.-5 p.m. and April 13, 2006, 8:30 a.m.-3:30 p.m.

Place: Stafford I, Room 1235, National Science Foundation, 4201 Wilson Blvd., Arlington, Virginia 22230.

Type of Meeting: Open.

Contact Person: Melissa Lane, Directorate for Geosciences, National Science Foundation, Suite 705, 4201 Wilson Blvd, Arlington, Virginia 22230. Phone 703-292-8500.

Minutes: May be obtained from the contact person listed above.

Purpose of Meeting: To provide advice, recommendations, and oversight concerning support for environmental research and education.

Agenda

April 12

Update on recent NSF environmental activities.

Discussion of Observatory Workshop Report.

Report by Director of OCI on Environmental Cyberinfrastructure.

Report on NSF Strategic Plan Development.

AC-ERE task group meetings.

Presentation on the NAS International Human Dimensions of Global Change committee.

April 13

AC-ERE task group reports.

AC-ERE Advice on Development of Water Initiative.

International Polar Year Update.

Future of Dynamics of Coupled Natural and Human System Program.

Discussion of Engineering themes on environment and sustainability.

Meeting with the Director.

Dated: March 21, 2006.
Susanne Bolton,
Committee Management Officer.

[FR Doc. 06-2897 Filed 3-24-06; 8:45 am]

BILLING CODE 7555-01-M